ENVIRONMENTAL PROTECTION AGENCY

[FRL-8030-2]

Science Advisory Board Staff Office; Clean Air Scientific Advisory Committee (CASAC); Notification of Advisory Committee Meeting of the CASAC Lead Review Panel

AGENCY: Environmental Protection Agency (EPA).

ACTION: Notice.

SUMMARY: The Environmental Protection Agency (EPA) Science Advisory Board (SAB) Staff Office announces a public meeting of the Clean Air Scientific Advisory Committee's (CASAC) Lead Review Panel (Panel) to conduct a peer review of the Air Quality Criteria for Lead (First External Review Draft), Volumes I and II (EPA/600/R-05/144aA-bA, December 2005).

DATES: The meeting will be held from 9 a.m. (eastern time) on Tuesday, February 28, 2006, through 3 p.m. (eastern time) on Wednesday, March 1, 2006.

Location: The meeting will take place at the Hilton Durham near Duke University, 3800 Hillsborough Road, Durham, NC 27705, Phone: (919) 383-8033.

FOR FURTHER INFORMATION CONTACT: Any member of the public who wishes to submit written or brief oral comments (five minutes or less) or wants further information concerning this meeting must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web Site at: http://www.epa.gov/sab.

SUPPLEMENTARY INFORMATION: Background: EPA is in the process of updating, and revising where appropriate, the air quality criteria document (AQCD) for lead. Section 109(d)(1) of the Clean Air Act (CAA) requires that EPA carry out a periodic review and revision, as appropriate, of the air quality criteria and the national ambient air quality standards (NAAQS) for the six “criteria” air pollutants including lead. On December 1, 2005, EPA's National Center for Environmental Assessment National, Research Triangle Park (NCEA-RTP), within the Agency's Office of Research and Development (ORD), made available for public review and comment a revised draft document, Air Quality Criteria for Lead (First External Review Draft), Volumes I and II (EPA/600/R-05/144aA-bA). This first draft Lead air quality criteria document (AQCD) represents a revision to the previous EPA document, Air Quality Criteria for Lead, EPA-600/8-83/028aF-dF (published in June 1986) and an associated supplement (EPA-600/8-89/049F) published in 1990. Under CAA sections 108 and 109, the purpose of the revised AQCD is to provide an assessment of the latest scientific information on the effects of ambient lead on the public health and welfare, for use in EPA's current review of the NAAQS for lead. Detailed summary information on the revised draft AQCD for lead is contained in a recent EPA Federal Register notice (70 FR 72300, December 2, 2005).

EPA is soliciting advice and recommendations from the CASAC by means of a peer review of the first draft Lead AQCD. The CASAC, which is comprised of seven members appointed by the EPA Administrator, was established under section 109(d)(2) of the Clean Air Act (CAA or Act) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App. The SAB Staff Office has established a CASAC Lead Review Panel to provide EPA with advice and recommendations concerning lead in ambient air. On September 6, 2005 the SAB Staff Office announced the formation of the CASAC Lead Review Panel in the Federal Register (70 FR 53001) and solicited nominations for experts to supplement the statutory CASAC. The Panel will comply with the provisions of FACA and all appropriate SAB Staff Office procedural policies. This meeting is the CASAC Lead Review Panel's initial peer review of the first draft Lead AQCD.

Technical Contact: Any questions concerning the first draft Lead AQCD should be directed to Dr. Lori White, NCEA-RTP, at phone: (919) 541-3146, or e-mail: white.lori@epa.gov.

Availability of Meeting Materials: The Air Quality Criteria for Lead (First External Review Draft), Volumes I and II (December 2005) can be accessed via the Agency's NCEA Web site at: http://cfpub.epa.gov/ncea/cfm/recordisplay.cfm?deid=141779. In addition, a copy of the draft agenda for this meeting will be posted on the SAB Web Site at: http://www.epa.gov/sab (under the “Agendas” subheading) in advance of this CASAC Lead Review Panel meeting. Other meeting materials, including the charge to the CASAC Lead Review Panel, will be posted on the SAB Web Site at: http://www.epa.gov/sab/panels/casac_lead_review_panel.htm prior to this meeting.

Procedures for Providing Public Input: Interested members of the public may submit relevant written or oral information for the CASAC Lead Review Panel to consider during the advisory process. Oral Statements: In general, individuals or groups requesting an oral presentation at a public meeting will be limited to five minutes per speaker, with no more than a total of one hour for all speakers. Interested parties should contact Mr. Butterfield, DFO (preferably via e-mail) at the contact information noted above, by February 21, 2006, to be placed on the public speaker list for this meeting. Written Statements: Written statements should be received in the SAB Staff Office by February 24, 2006, so that the information may be made available to the Panel for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: February 3, 2006.
Vanessa Vu,
Director, EPA Science Advisory Board Staff Office.

[FR Doc. E6-1801 Filed 2-8-06; 8:45 am]

BILLING CODE 6560-50-P